DEPARTMENT OF TRANSPORTATION

Federal Aviation Administration

14 CFR Part 71

[Docket No. FAA-2015-1650; Airspace Docket No. 14-AEA-8]

RIN 2120-AA66

Amendment of VOR Federal Airways; Northeastern United States

AGENCY: Federal Aviation Administration (FAA), DOT.

ACTION: Final rule; delay of effective date, and correction.

SUMMARY: This action changes the effective date of a final rule published in the Federal Register on June 9, 2015, amending VOR Federal airways V-31, V-36, V-98, V-164 and V-252 in the northeastern United States. The FAA is taking this action to link the effective date of the airway amendments with the completion of the development of associated en route procedures. In addition, this action corrects the description of Federal airway V-36 by restoring certain segments of that route that were removed in the final rule.

DATES: The effective date of the final rule published on June 9, 2015, is delayed from August 20, 2015, to October 15, 2015. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call (202) 741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: (202) 267-8783.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Background

Docket No. FAA-2015-1650, Airspace Docket No. 14-AEA-8, published in the Federal Register on June 9 2015 (80 FR 32464), amends VOR Federal airways V-31, V-36, V-98, V-164 and V-252 by removing certain segments in Canadian airspace. The development of associated en route procedures are planned for October 15, 2015, therefore the rule amending these airways is delayed until that date.

Additionally, subsequent to publication of the final rule, it was determined that an error was made in the description of Federal airway V-36, whereby the airway segments between Thunder Bay, Ontario, Canada, and the intersection of radials from the Wiarton, Ontario, Canada, and the Toronto, Ontario, Canada, navigation aids were inadvertently removed. This action corrects the description of V-36 by reinserting the missing airway segments.

Domestic VOR Federal Airways are published in paragraph 6010(a) of FAA Order 7400.9Y, dated August 6, 2014, and effective September 15, 2014, which is incorporated by reference in 14 CFR 71.1. The VOR Federal Airway listed in this document will be published subsequently in the Order.

Delay of Effective Date

Accordingly, pursuant to the authority delegated to me, the effective date of the final rule, Airspace Docket 14-AEA-8, as published in the Federal Register on June 9, 2015 (80 FR 32464), is hereby delayed until October 15, 2015.

Correction to Final Rule

Accordingly, pursuant to the authority delegated to me, the description of VOR Federal airway V-36 as published in the Federal Register on June 9, 2015 (80 FR 32464) (FR Doc. 2015-13980) for Federal airway V-36, is corrected under the description for V-36 as follows:

Paragraph 6010(a) Domestic VOR Federal Airways

* * * * *

V-36 [Corrected]

On page 32465, column 2, remove lines 39-42 and add in its place:

From Thunder Bay, ON, Canada; Wawa, ON, Canada; Sault Ste Marie, MI; Elliot Lake, ON, Canada; Wiarton, ON, Canada to INT Wiarton 150° and Toronto, ON, Canada, 304° radials.

From Buffalo; Elmira, NY; INT Elmira 110° and LaGuardia, NY, 310° radials; to INT LaGuardia 310° and Stillwater, NJ, 043° radials. The airspace in Canada is excluded.

Authority: 49 U.S.C. 106(f), 106(g); 40103, 40113, 40120; E.O. 10854, 24 FR 9565, 3 CFR, 1959-1963 Comp., p. 389.

Issued in Washington, DC, on July 30, 2015.
Jacqueline R. Jackson,
Acting Manager, Airspace Policy and Regulations Group.

[FR Doc. 2015-19239 Filed 8-12-15; 8:45 am]

BILLING CODE 4910-13-P